NUCLEAR REGULATORY COMMISSION

[Docket No.: 50-333; NRC-2012-0006]

Entergy Nuclear Operations, Inc.; Notice of Withdrawal of Application for Amendment to Facility Operating License

The U.S. Nuclear Regulatory Commission (NRC or the Commission) has granted the request of Entergy Nuclear Operations, Inc. (the licensee) to withdraw its January 13, 2011 (Agencywide Documents and Management System (ADAMS) Accession No. ML110130436), application for the proposed amendment to Renewed Facility Operating License (FOL) No. DPR-59 for the James A. FitzPatrick Nuclear Power Plant, located in Oswego County, New York.

The proposed amendment would have modified the Renewed FOL by deleting references to specific Safety Evaluation Reports, Technical Specification Amendments, and Exemptions from License Condition 2.C(3), Fire Protection, and replacing them with the words “as supplemented.”

The Commission had previously issued a Notice of Consideration of Issuance of Amendment published in the Federal Register on February 22, 2011 (76 FR 9823). However, by letter dated January 4, 2012 (ADAMS Accession No. ML120050483), the licensee withdrew the proposed change.

For further details with respect to this action, see the application for amendment dated January 13, 2011, and the licensee's letter dated January 4, 2012, which withdrew the application for license amendment. Documents may be examined, and/or copied for a fee, at the NRC's Public Document Room (PDR), located at One White Flint North, Public File Area O1 F21, 11555 Rockville Pike (first floor), Rockville, Maryland. Publicly available documents created or received at the NRC are accessible electronically through the ADAMS in the NRC Library at http://www.nrc.gov/reading-rm/adams.html. Persons who do not have access to ADAMS or who encounter problems in accessing the documents located in ADAMS should contact the NRC PDR Reference staff by telephone at 1-(800) 397-4209, or (301) 415-4737 or by email to pdr.resource@nrc.gov.

Dated at Rockville, Maryland, this 9th day of January 2012.
For the Nuclear Regulatory Commission.
Bhalchandra K. Vaidya,
Project Manager, Plant Licensing Branch I-1, Division of Operating Reactor Licensing, Office of Nuclear Reactor Regulation.

[FR Doc. 2012-664 Filed 1-13-12; 8:45 am]

BILLING CODE 7590-01-P